DEPARTMENT OF ENERGY

Federal Energy Regulatory Commission

[Docket No. RP07-393-000]

Natural Gas Pipeline Company of America; Notice of Refund Report

April 10, 2007.

Take notice that on April 5, 2007, Natural Gas Pipeline Company of America (Natural) filed its Refund Report regarding the penalty revenues for the period July 1, 2006 through December 31, 2006 that it refunded to its customers pursuant to Section 12.8 of the General Terms and Conditions (GT&C) of its FERC Gas Tariff, Sixth Revised Volume No. 1.

Natural states that the purpose of this filing is to inform the Commission of its refund to customers of penalty revenues pursuant to Section 12.8 of Natural's GT&C.

Natural states that copies of the filing are being mailed to its customers and interested state regulatory agencies.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Intervention and Protest Date: 5 p.m. Eastern Time April 17, 2007.

Kimberly D. Bose,
Secretary.

[FR Doc. E7-7167 Filed 4-13-07; 8:45 am]

BILLING CODE 6717-01-P